DEPARTMENT OF AGRICULTURE

National Institute of Food and Agriculture

Notice of Intent To Request Approval To Establish a New Information Collection

AGENCY: National Institute of Food and Agriculture, USDA.

ACTION: Notice and request for comments.

SUMMARY: In accordance with the Paperwork Reduction Act of 1995 and Office of Management and Budget (OMB) regulations, that implement the Paperwork Reduction Act of 1995, this notice announces the National Institute of Food and Agriculture's (NIFA) intention to request approval to establish a new information collection for the REEport system.

DATES: Written comments on this notice must be received by September 15, 2010, to be assured of consideration. Comments received after that date will be considered to the extent practicable.

ADDRESSES: You may submit comments, identified by 2010-0002 to: Federal eRulemaking Portal: http://www.regulations.gov. Follow the instructions for submitting comments. You may submit written comments concerning this notice and requests for copies of the information collection to: Jason Hitchcock, Director, Information Policy, Planning and Training; Mail: NIFA/USDA, Mail Stop 2216, 1400 Independence Avenue, SW., Washington, DC 20250-2299; Hand Delivery/Courier: 800 9th Street, SW., Waterfront Centre, Room 4217, Washington, DC 20024; Fax: 202-720-0857; or E-mail: jhitchcock@nifa.usda.gov.

FOR FURTHER INFORMATION CONTACT: Jason Hitchcock, Director of Information, Policy, Planning, and Training; Information Systems and Technology Management; NIFA/USDA; E-mail: jhitchcock@nifa.usda.gov.

SUPPLEMENTARY INFORMATION:

Title: REEport System.

OMB Number: 0524-New.

Type of Request: Intent to request approval to establish a new information collection for three years.

Abstract: The United States Department of Agriculture (USDA), National Institute of Food and Agriculture (NIFA) administers several competitive, peer-reviewed research, education, and extension programs, under which awards of a high-priority are made. These programs are authorized pursuant to the authorities contained in the National Agricultural Research, Extension, and Teaching Policy Act of 1977, as amended (7 U.S.C. 3101 et seq.); the Smith-Lever Act (7 U.S.C. 341 et seq.); and other legislative authorities. NIFA also administers several formula funded research programs. The programs are authorized pursuant to the authorities contained in the McIntire-Stennis Cooperative Forestry Research Act of October 10, 1962 (16 U.S.C. 582a-1-582a-7); the Hatch Act of 1887, as amended (7 U.S.C. 361a-361i); Section 1445 of Public Law 95-113, the Food and Agriculture Act of 1977, as amended (7 U.S.C. 3222); and Section 1433 of Subtitle E (Sections 1429-1439), Title XIV of Public Law 95-113, as amended (7 U.S.C. 3191-3201). Each formula funded program is subject to a set of administrative requirements: “Administrative Manual for the McIntire-Stennis Cooperative Forestry Research Program,” the “Administrative Manual for the Hatch Research Program,” the “Administrative Manual for the Evans-Allen Cooperative Agricultural Research Program,” and the “Administrative Manual for the Continuing Animal Health and Disease Research Program.”

NIFA plans to deploy REEport, a critical component of its One Solution reporting initiative (http://www.nifa.usda.gov/business/reporting/onesolution.html) in a staged approach. REEport will become NIFA's grant and formula project reporting system, building on and replacing the existing Current Research Information System (CRIS) web forms system (OMB Control Number: 0524-0042). As part of REEport's implementation, NIFA intends to transfer existing data in CRIS to REEport and then terminate the applicable component of CRIS. For the existing projects that reported to CRIS, the awardees will then report to REEport.

Out of an initiative of the Research Business Models (RBM) Subcommittee of the Committee on Science (CoS), a committee of the National Science and Technology Council (NSTC), came the Research Performance Progress Report (RPPR). The RPPR is a new uniform format for reporting performance progress on Federally-funded research projects. Upon implementation, the RPPR will be used by agencies that support research and research-related activities for use in submission of interim progress reports. It is intended to replace other interim performance reporting formats currently in use by agencies. In anticipation of the RPPR's implementation, NIFA based REEport's format on the RPPR.

REEport will better address NIFA accountability and reporting needs by supporting limited use of program-specific data fields and the ability to upload documents such as portable document files (PDF) into reports. With the implementation of REEport, NIFA will eliminate the requirement to submit an annual Funding and Staff Support (Form AD-419) for non-formula grants (AD-419 data will still be required for formula grant projects). At this time, the intention is to collect expenditure information only for formula projects through REEport and this will take the form of what is currently collected on the AD-419.

REEport will allow Hatch and Evans-Allen projects to be linked to planned programs in the Agricultural, Research, Extension and Education Reform Act of 1988 (AREERA) Plan of Work Information System which will simplify the preparation of State Annual Reports. Each Hatch and Evans-Allen project in REEport will choose which Planned Program it is a part of in the Plan of Work. Once this link is made, expenditures, FTEs, and possibly Knowledge Area Classification can then roll up into the Plan of Work system, thus eliminating points of double reporting and eliminating discrepancies between the two systems.

Version 1 of REEport is expected to be deployed in the following four stages:

• Stage A—Non-formula new project initiation—implementation is anticipated for October 1, 2010.

• Stage B—Progress and final technical reports for all new and existing (data transferred from CRIS) non-formula grants—implementation is anticipated for January 14, 2011.

• Stage C—Formula new project initiation—implementation is targeted for October 1, 2011.

• Stage D—Expenditure, progress, and termination reports for all new and existing (data transferred from CRIS) formula projects—implementation is targeted for October 1, 2011.

Further information about each of these stages can be found on http://www.nifa.usda.gov/business/reeport_imp.html which will include implementation updates and other information as it becomes available. NIFA will send out the updates monthly to the new REEportDeploy Lyris e-mail list, which has been created from the CRIS and Plan of Work contacts lists. Interested parties may subscribe to the list by sending an e-mail message to lyris@lyris.nifa.usda.gov. Skip the subject line and type subscribe REEportDeploy in the body of your message. Be sure you receive an e-mail confirming your subscription.

The REEport system is to be NIFA's new documentation and reporting system for project initiation and reporting and constitute a necessary information collection for NIFA-supported projects as set forth in requirements established in 7 CFR Parts 3400 through 3430 pertaining to the aforementioned authorities. This information collection is necessary in order to provide descriptive information regarding individual research, education, extension, and integrated activities and to document expenditures and staff support, as well as monitor the progress and impact of such activities.

The information provided through REEport will help users (grantees, grantee institutions and NIFA) to keep abreast of the latest developments in agricultural, food science, human nutrition and forestry research and education; track resource utilization in specific target areas of work; plan for future activities; plan for resource allocation to research, education, and extension programs; avoid costly duplication of effort; aid in coordination of efforts addressing similar problems in different locations; and aid research, education, and extension workers in establishing valuable contacts within the agricultural community.

REEport Stage A and Stage B User Fields and Types

1. Project Initiation:

a. (conditional requirement) Grantee Project Number (REEport partner sites require a project number. Field will not be displayed to independent grantees).

b. (optional) Collaborating/Partnering Country.

c. Goals and Objectives (text box).

d. Expected Outputs (text box).

e. Expected Outcomes (text box).

f. Methods (text box).

g. Non-technical Summary (text box).

h. (optional) Target Audience (text box).

i. (optional) Animal Health Component (percent).

j. Taxonomy (one required but no more than 10 accepted).

i. Knowledge Area (code and percent).

ii. Subject of Investigation (code and percent).

iii. Field of Science (code and percent).

k. Research/Education/Extension project effort allocation (percent).

i. If Research percent is greater than 0, further refinement of the activity is required:

1. Basic (percent).

2. Applied (percent).

3. Development (percent).

ii. If Research is null or zero, the refinement fields will be hidden from view on the interface.

2. Progress/Final Technical Reports: Information collected for progress/final technical reports will be as indicated in the RPPR with the exception of NIFA special reporting requirements (as allowed by the RPPR) as noted.

a. Grant Participants.

i. Actual FTEs for reporting period.

Role | Non- students or faculty | Students within staffing roles: Under- graduate | Students within staffing roles: Graduate | Students within staffing roles: Post- doctorate
Scientist |  |  |  |
Professional |  |  |  |
Technical |  |  |  |
Administrative |  |  |  |
Other |  |  |  |

ii. Changes project participants from Project Initiation or previous report (text box).

b. Target Audiences (NIFA special requirement) (text box).

c. Products.

i. Publications, conference papers, and presentations.

1. Type (choice of journal publications; books or other non-periodical, one time publications; other publications, conference papers and presentations).

2. Status (choice of published, accepted, submitted, other).

3. Year published (4 digit year).

4. Citation (text box).

5. NIFA support acknowledged (Y/N field).

ii. Inventions, patent applications, and/or licenses (including Plant Variety Protections).

1. Type (choice of patent, PVP, licenses).

2. Status (choice of application, awarded, licensed).

3. Patent/PVP Number (text box).

4. Title (text box).

iii. Other Products (Outputs).

1. Output Type.

2. Output (text box).

3. Description (text box).

d. Accomplishments.

i. Major activities, specific objectives, and significant results, including major findings, developments, or conclusions (both positive and negative), including a discussion of stated goals not met. (text box).

ii. Key outcomes.

1. Outcome type (choice of change in knowledge, change in action, change in condition).

2. Outcome (text box).

iii. What opportunities for training and professional development has the project provided? (text box).

iv. How have the results been disseminated to communities of interest? (text box).

v. What do you plan to do during the next reporting period to accomplish the goals? (text box).

e. Changes/Problems (text box).

Estimate of Burden: NIFA used burden estimates from the current CRIS collection to estimate the burden for REEport, but anticipates the transactions for project initiation may be reduced because grant application information will be used to prepopulate many fields. The total annual burden for the non RPPR portion of this collection is 36,620 hours.

Transaction name | Using RPPR format | Estimated number of responses | Estimated burden per response | Total annual burden
Project Initiation | No | 3,700 | 4.6 | 17,020
Progress Report | Yes | 8,700 | 2.7 | 23,490
Final Technical Report | No | 2,800 | 2.7 | 7,560
Expenditure Report | No | 8,700 | 1.4 | 12,180

Comments: Comments are invited on: (a) Whether the proposed collection of information is necessary for the proper performance of the functions of the Agency, including whether the information will have practical utility; (b) the accuracy of the Agency's estimate of the burden of the proposed collection of information; (c) ways to enhance the quality, utility, and clarity of the information to be collected; and (d) ways to minimize the burden of the collection of information on those who are to respond, including through the use of appropriate automated, electronic, mechanical, or other technological collection techniques or other forms of information technology.

Done at Washington, DC, this 1st day of July, 2010.
Ann Bartuska,
Acting Deputy Under Secretary Research, Education, and Economics.

[FR Doc. 2010-16854 Filed 7-9-10; 8:45 am]

BILLING CODE 3410-22-P